ENVIRONMENTAL PROTECTION AGENCY

[EPA-HQ-OPP-2011-0082; FRL-8863-3]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before March 28, 2011.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at their Division: Biopesticides and Pollution Prevention Division (7511P), or Registration Division (7505P), Office of Pesticide Programs, Environmental Protection Agency, 1200 Pennsylvania Ave., NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action Is the Agency Taking?

EPA is announcing its receipt of several pesticide petitions filed under section 408 of the Federal Food, Drug, and Cosmetic Act (FFDCA), 21 U.S.C. 346a, proposing the establishment or modification of regulations in 40 CFR part 174 or part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petitions so that the public has an opportunity to comment on the requests for the establishment or modification of regulations for residues of pesticides in or on food commodities. Further information on the petitions may be obtained through the petitions summaries referenced in this unit.

New Tolerances

1. PP 0E7790. (EPA-HQ-OPP-2010-0186). Nissan Chemical Industries, Inc., 3-7-1, Kanda Nishiki-cho, Chiyoda-ku, Tokyo, Japan c/o Lewis & Harrison, 122 C Street, NW., Suite 740, Washington, DC 20001, proposes to establish tolerances in 40 CFR part 180 for residues of the fungicide amisulbrom, 3-[3-bromo-6-fluoro-2-methyl-H-indol-1-yl sulfonyl]-N,N-dimethyl-1H-1,2,4-triazole-1-sulfonamide and its metabolite IT-4, in or on tomatoes at 0.5 parts per million (ppm) and tomato, paste at 1.2 ppm. The proposed tolerances are for tomatoes and its processed products treated in Western Europe and imported into the United States. There will be no U.S. registration. Tandem mass spectrographic detection (LC/MS/MS) is used for determination and quantification of amisulbrom. The limit of quantitation (LOQ) is 0.01 ppm. The Food and Drug Administration (FDA) Multi-Residue Protocols C and E were tested and considered suitable as either an enforcement method or as a confirmatory method. Contact: Olga Odiott, (703) 308-9369, Registration Division (7505P), e-mail address: odiott.olga@epa.gov.

2. PP 0E7802. (EPA-HQ-OPP-2010-1018). Interregional Research Project Number 4 (IR-4), Rutgers, The State University of New Jersey, 500 College Road East, Suite 201W., Princeton, NJ 08540, proposes to establish a tolerance in 40 CFR part 180 for residues of the herbicide quizalofop-ethyl (ethyl-2-[4-(6-chloroquinoxalin-2-yl oxy)phenoxy]propanoate), including its metabolites and degradates, in or on rapeseed subgroup 20A, except flax, seed at 1.0 ppm; gold of pleasure, meal at 1.5 ppm; crambe, meal at 1.5 ppm; sorghum, grain at 0.2 ppm; sorghum, forage at 0.2 ppm; sorghum, stover at 0.35 ppm; and sorghum, aspirated grain at 1.0 ppm. An adequate analytical methodology, high-pressure liquid chromatography (HPLC) using either ultraviolet (UV) or fluorescence detection is available for enforcement purposes and is available in the Food and Drug Administration Pesticide Analytical Method Volume II (PAM II, Method I). Contact: Laura E. Nollen, (703) 305-7390, Registration Division (7505P), e-mail address: nollen.laura@epa.gov.

3. PP 0E7804. (EPA-HQ-OPP-2010-0472). Interregional Research Project No. 4 (IR-4), Rutgers, The State University of New Jersey, 500 College Road East, Suite 201W., Princeton, NJ 08540, proposes to establish a tolerance in 40 CFR part 180 for residues of the insecticide zeta-cypermethrin, (S-cyano(3-phenoxyphenyl) methyl (±))(cis-trans 3-(2,2-dichloroethenyl)-2,2 dimethylcyclopropanecarboxylate and its inactive R-isomers, in or on avocado; papaya; star apple; black sapote; mango; sapodilla; canistel; and mamey sapote at 0.45 ppm. There is a practical analytical method for detecting and measuring levels of cypermethrin in or on food with a limit of detection that allows monitoring of food with residues at or above the levels set in these tolerances, Gas Chromatography with Electron Capture Detection (GC/ECD). Contact: Andrew Ertman, (703) 308-9367, Registration Division (7505P), e-mail address: ertman.andrew@epa.gov.

4. PP 0E7809. (EPA-HQ-OPP-2010-1017). Interregional Research Project No. 4 (IR-4), Rutgers, The State University of New Jersey, 500 College Road East, Suite 201W., Princeton, NJ 08540, proposes to establish a tolerance in 40 CFR part 180 for residues of the herbicide rimsulfuron, N-((4,6-dimethoxypyrimidin-2-yl)aminocarbonyl)-3-(ethylsulfonyl)-2-pyridinesulfonamide, including its metabolites and degradates, in or on caneberry, subgroup 13-07A at 0.01 ppm; and bushberry, subgroup 13-07B at 0.01 ppm. Adequate analytical methodology, HPLC with electrospray ionization tandem mass spectrometry (ESI-MS/MS) detection, is available for enforcement purposes. Contact: Sidney C. Jackson, (703) 305-7610, Registration Division (7505P), e-mail address: jackson.sidney@epa.gov.

5. PP 0F7763. (EPA-HQ-OPP-2010-0888). E. I. DuPont de Nemours and Company, DuPont Crop Protection, 1700 Market St., Wilmington, DE 19898, proposes to establish a tolerance in 40 CFR part 180 for residues of the insecticide chlorantraniliprole, 3-bromo-N-[4-chloro-2-methyl-6-[(methylamino)carbonyl]phenyl]-1-(3-chloro-2-pyridinyl)-1H-pyrazole-5-carboxamide, in or on bushberry, subgroup 13-07B at 2.5 ppm; large shrub/tree berry, subgroup 13-07C at 2.5 ppm; low growing berry, subgroup 13-07G at 2.5 ppm; ti palm, roots at 0.35 ppm; ti palm, leaves at 13 ppm; root and tuber vegetables, group 1 at 0.35 ppm; leaves of root and tuber vegetables, group 2 at 40 ppm; sugar beet molasses at 11 ppm; onion, bulb, subgroup 3-07A at 0.35 ppm; peanut, nutmeat at 0.35 ppm; peanut, hay at 90 ppm; tea, dried leaves at 50 ppm and to increase tolerances in or on fruiting vegetables (except cucurbits), group 8 from 0.70 ppm to 0.90 ppm; cucurbit vegetables, group 9 from 0.25 ppm to 0.30 ppm; and okra from 0.70 ppm to 0.90 ppm. Spectrometry is available to enforce the proposed tolerances. Contact: Rita Kumar, (703) 308-8291, Registration Division (7505P), e-mail address: kumar.rita@epa.gov.

6. PP 0F7783. (EPA-HQ-OPP-2010-0968). Valent U.S.A. Corporation, 1600 Riviera Avenue, Suite 200, Walnut Creek, CA 94596, proposes to establish a tolerance in 40 CFR part 180 for residues of the insecticide etoxazole, 2-(2,6-difluorophenyl)-4-[4-(1,1-dimethylethyl)-2-ethoxyphenyl]-4,5-dihydrooxazole, in or on corn, field, grain at 0.01 ppm; corn, field, forage at 0.6 ppm; corn, field, stover at 2.5 ppm; corn, field, refined oil at 0.03 ppm; corn, pop, grain at 0.01 ppm; corn, pop, stover at 2.5 ppm; poultry, fat at 0.01 ppm; and poultry, liver at 0.02 ppm. Adequate enforcement methodology gas chromatography/mass spectrometry detection (GC/MSD) for detecting and measuring levels of etoxazole is available to enforce proposed tolerances in/on corn raw and processed commodities. Gas chromatography/nitrogen phosphorus detection (GC/NPD) enforcement methodology is also available to enforce proposed livestock commodity tolerances. Contact: Autumn Metzger, (703) 305-5314, Registration Division (7505P), e-mail address: metzger.autumn@epa.gov.

7. PP 0F7805. (EPA-HQ-OPP-2010-1079). Syngenta Crop Protection, Inc., Syngenta Crop Protection, Inc., P.O. Box 18300, Greensboro, NC, 27419, proposes to establish a tolerance in 40 CFR part 180 for residues of the insecticide thiamethoxam (CAS Reg. No. 153719-23-4), 3-[(2-chloro-5-thiazolyl)methyl]tetrahydro-5-methyl-N-nitro-4H-1,3,5-oxadiazin-4-imine and its metabolite, N-(2-chloro-thiazol-5-ylmethyl)-N'-methyl-N'-nitro-guanidine, in or on grain, cereal, group 15, except barley and corn at 0.02 ppm. Syngenta Crop Protection, Inc., has submitted practical analytical methodology for detecting and measuring levels of thiamethoxam in or on raw agricultural commodities. This method is based on crop specific cleanup procedures and determination by liquid chromatography with either UV or MS detections. The limit of detection (LOD) for each analyte of this method is 1.25 nanograms (ng) injected for samples analyzed by UV and 0.25 ng injected for samples analyzed by MS, and the limit of quantification (LOQ) is 0.005 ppm for milk and juices, and 0.01 ppm for all other substrates. Contact: Kable Bo Davis, (703) 306-0415, Registration Division (7505P), e-mail address: davis.kable@epa.gov.

Amended Tolerance

PP 0E7802. (EPA-HQ-OPP-2010-1018). Interregional Research Project Number 4 (IR-4), Rutgers, The State University of New Jersey, 500 College Road East, Suite 201W., Princeton, NJ 08540, proposes to amend the tolerance in 40 CFR 180.441 for residues of the herbicide quizalofop-ethyl (ethyl-2-[4-(6-chloroquinoxalin-2-yl oxy)phenoxy]propanoate), including its metabolites and degradates, by removing the established tolerance for canola, seed at 1.0 ppm from the table in paragraph (a)(3) upon the approval of the aforementioned tolerances under Unit II. “New Tolerance”, as the individual tolerance will be superseded by inclusion in rapeseed subgroup 20A, except flax, seed. The petition also proposes to remove section (a)(4), as these tolerances expired on June 14, 1999.

The petition, PP 0E7802, also proposes to amend the tolerances in 40 CFR part 180.441 by combining the tables for sections (a)(1) and (a)(3) into one table under section (a)(1), and by removing section (a)(3). The petition further proposes to revise the tolerance expression under section (a)(1) to read as follows: “Tolerances are established for residues of the herbicide quizalofop ethyl, including its metabolites and degradates, in or on the commodities in the table below. Compliance with the tolerance levels specified below is to be determined by measuring only those quizalofop ethyl residues convertible to 2-methoxy-6-chloroquinoxaline, expressed as the stoichiometric equivalent of quizalofop ethyl, in or on the commodity.”

The petition, PP 0E7802, additionally proposes to revise the tolerance expression under section (a)(2) to read as follows: “Tolerances are established for residues of the herbicide quizalofop ethyl, including its metabolites and degradates, in or on the commodities in the table below. Compliance with the tolerance levels specified below is to be determined by measuring only those quizalofop ethyl residues convertible to quizalofop (2-[4-(6-chloroquinoxalin-2-yl-oxy)phenoxy]propanoic acid), expressed as quizalofop, in or on the commodity.”

Finally, the petition proposes to revise the tolerance expression under section (c) to read as follows: “Tolerances with regional registrations. Tolerances with regional registration are established for residues of the herbicide quizalofop ethyl, including its metabolites and degradates, in or on the commodities in the table below. Compliance with the tolerance levels specified below is to be determined by measuring only those quizalofop ethyl residues convertible to 2-methoxy-6-chloroquinoxaline, expressed as the stoichiometric equivalent of quizalofop ethyl, in or on the commodity.” Contact: Laura E. Nollen, (703) 305-7390, Registration Division (7505P), e-mail address: nollen.laura@epa.gov.

New Tolerance Exemptions

1. PP 0E7697. (EPA-HQ-OPP-2010-0271). Novozymes, North America, Inc., P.O. Box 576, 77 Perry Chapel Church Road, Franklinton, NC 27525, proposes to establish an exemption from the requirement of a tolerance for residues of lipase, triacylglycerol (CAS Reg. No. 9001-62-1), under 40 CFR 180.950 when used as an inert ingredient in pesticide formulations as an aid in the removal of lipids when used in contact surface sanitizers. The petitioner believes no analytical method is needed because this petition is a request for an exemption from the requirement of a tolerance without numerical limitations. Contact: Elizabeth Fertich, (703) 347-8560, Registration Division (7505P), e-mail address: fertich.elizabeth@epa.gov.

2. PP 0F7778. (EPA-HQ-OPP-2011-0012). Marrone Bio Innovations, Inc., EPA Company No. 84059, 2121 Second St., Suite B-107, Davis, CA 95618, proposes to establish an exemption from the requirement of a tolerance for residues of the biological insecticide, Burkholderia sp strain A396, under 40 CFR part 180 in or on all agricultural commodities. An analytical method for detecting and measuring the levels of the pesticide residue for Burkholderia sp strain A396 is not applicable. It is expected that when used as proposed, Burkholderia sp strain A396 would not result in residues that are of toxicological concern. Contact: Anna Gross, (703) 305-5614, Biopesticides and Pollution Prevention Division (7511P), e-mail address: gross.anna@epa.gov.

List of Subjects

Environmental protection, Agricultural commodities, Feed additives, Food additives, Pesticides and pests, Reporting and recordkeeping requirements.

Dated: February 11, 2011.
Daniel J. Rosenblatt,
Acting Director, Registration Division, Office of Pesticide Programs.

[FR Doc. 2011-4142 Filed 2-24-11; 8:45 am]

BILLING CODE 6560-50-P